ENVIRONMENTAL PROTECTION AGENCY

[FRL-8907-6]

State Allotment Percentages for the Drinking Water State Revolving Fund Program

AGENCY: Environmental Protection Agency (EPA).

ACTION: Notice.

SUMMARY: In this notice, EPA is announcing the revised Drinking Water State Revolving Fund (DWSRF) allotments that will be provided to the States, the District of Columbia, Puerto Rico, U.S. Territories, American Indian Tribes, and Alaska Native Villages if the President's budget request for Fiscal Year 2010 is enacted. These allotments reflect the results from EPA's most recent Drinking Water Infrastructure Needs Survey and Assessment, which was released on March 26, 2009. The revised State allotment percentages will be the basis for distributing the DWSRF program appropriations to the States for the four years from Fiscal Years 2010 through 2013.

DATES: This notice is effective May 28, 2009.

FOR FURTHER INFORMATION CONTACT: For inquiries, contact Travis Creighton, Drinking Water Protection Division, Office of Ground Water and Drinking Water (4606M), Environmental Protection Agency, 1200 Pennsylvania Ave., NW., Washington, DC 20460; telephone number: (202) 564-3858; fax number: (202) 564-3757; e-mail address: Creighton.travis@epa.gov. Copies of this document and information on the Drinking Water Infrastructure Needs Survey and Assessment and the DWSRF program can be found on EPA's Office of Ground Water and Drinking Water Web site at http://www.epa.gov/safewater/.

SUPPLEMENTARY INFORMATION: The 1996 Safe Drinking Water Act (SDWA) Amendments established a DWSRF program and Congress has appropriated $10.3 billion, in total, for the program since its inception through Fiscal Year (FY) 2009. Congress directed that allotments for FY 1998 and each subsequent year would be distributed among States based on the results of an assessment by EPA of the relative infrastructure investment needs of the drinking water systems within each state (SDWA section 1452(a)(1)(D)(ii)), which must be conducted every four years.

EPA's Drinking Water Infrastructure Needs Survey and Assessment

EPA's first assessment, which reflected 1995 survey data, was released in February 1997; the second assessment, which reflected 1999 survey data, was released in February 2001; and the 2003 assessment was released in 2005. The 2007 Drinking Water Infrastructure Needs Survey and Assessment (Needs Assessment) was released on March 26, 2009 (EPA 816-R-09-001).

The 2007 Needs Assessment was completed in cooperation with the States. The States participated in both the design of the survey and in the collection of data. The survey examined the needs of water systems and used these data to determine the aggregate infrastructure investment needs of drinking water systems within each individual State. The survey included: All of the nation's 584 largest systems, each serving over 100,000 people; a statistical sample of 2,266 systems, each serving 3,301-100,000 people; and a statistical sample of 600 small water systems, each serving fewer than 3,301 people.

The sample design for the survey and assessment produces a statistically-valid State-by-State bottom-line estimate of the total need, which reflects the capital costs for all drinking water infrastructure projects allowed for inclusion in the survey. The 2007 Needs Assessment also presents capital needs for each State by system size and by category of need (i.e., treatment, distribution and transmission, storage, source, and “other”).

In general, an infrastructure project was included in the Needs Assessment if project documentation demonstrated that meeting the need would address the public health objectives of SDWA. The total State need includes both projects that are currently needed and future projects that will be needed over the next 20 years. Projects to correct immediate public health threats (e.g., replacing a deteriorated filter plant) are given the same weight in the assessment as less critical needs (e.g., replacing a storage tank that is expected to reach the end of its useful life in five years). The Needs Assessment excluded capital projects that are ineligible for DWSRF program assistance, such as dams, reservoirs and projects needed solely for growth.

The 2007 Needs Assessment found that the total national need is $334.8 billion (Table 1). This estimate represents the needs of the approximately 52,000 community water systems and 21,400 not-for-profit non-community water systems that are eligible to receive DWSRF program assistance. These systems are found in all 50 States, the District of Columbia, Puerto Rico, on American Indian lands and in Alaska Native Villages, and the Virgin Island and Pacific Island territories.

Table 1—2007 Drinking Water Infrastructure Needs Survey and Assessment 20-Year Needs
Type of need | Need (billions)
States | $324.0
Territories | 0.9
American Indian and Alaska Native Villages | 2.9
Costs for Proposed and Recent Regulations | 7.0
Total National Need | 334.8
Note: Numbers may not total due to rounding.

The total national need also includes $7.0 billion in capital needs associated with recently promulgated and proposed regulations, as identified in EPA Economic Analyses accompanying the rules. Although these needs are included in the total national need, they were not apportioned to the States based on the unanimous recommendation of the State representatives who participated in the survey design. The States expressed concern that the methods available for allocating the costs of these more recent or proposed regulations would not yet be represented in the capital improvement plans of water systems at the time of the 2007 survey. The total State need, which is the figure that EPA will use to calculate the State allotments, includes only the needs of the 50 States, the District of Columbia, and Puerto Rico. The 2007 Needs Assessment estimates that the total State need is $324.0 billion.

Allocation Method

On October 31, 1996, EPA solicited public comment on six options for using the results of the first Drinking Water Infrastructure Needs Survey and Assessment to allocate DWSRF program funds to the States (61 FR 56231). On March 18, 1997, EPA announced its decision to allocate DWSRF program funds for FYs 1998 through 2001 appropriations based on each State's proportional share of the total eligible needs for the States as derived from the 1995 Needs Assessment (62 FR 12900). EPA used this same method when allocating DWSRF program funds for FYs 2002 through 2005, utilizing the results of the 1999 Needs Assessment, and for FYs 2006 through 2009, utilizing the results of the 2003 Needs Assessment. EPA has made the determination that it will continue to use this method for allocating DWSRF program funds for FYs 2010 through 2013 appropriations, utilizing the results of the 2007 Needs Assessment.

The funds available to the States will be the level of funds appropriated by Congress, less the national set-asides, which includes an allocation for American Indian and Alaska Native Village water systems. Of the funds available to States, the SDWA includes specific allocations for the Pacific Islands, the Virgin Islands, and the District of Columbia. Each State will receive an allotment of DWSRF program funds based on its proportional share of the total State need ($324.0 billion), provided that each State receives a minimum allocation of one percent of the funds available to States, as required by the SDWA. The 2007 Needs Assessment found that 20 States, Puerto Rico, and the District of Columbia each had less than one percent of the total national need; for 2010 to 2013, each of these DWSRF grantees will be eligible for one percent of the annual DWSRF funds made available to States (or, in aggregate, 22 percent of the total DWSRF funds made available to States).

President's Request for Allotments for American Indian and Alaska Native Water Systems and for United States Territories

The President's budget request for FY 2010 includes an increase in the minimum funding to be made available to American Indian and Alaska Native water systems from 1.5% to 2.0% of the total funding appropriated for the DWSRF. The President also requested an increase in the minimum funding to be made available to United States Territories from 0.33% to 1.5% of the total available to the States, the District of Columbia and Puerto Rico.

Allocation of Funds

Table 2 contains each State's expected DWSRF program allotment based on an appropriation of $1,500,000,000 and national set-aside assumptions. The appropriation amount is based on the President's budget request of $1,500,000,000 for FY 2010. The national set-asides for Fiscal Year 2010 include funds for American Indian and Alaska Native Village water systems at the level of 2.0% percent of the total appropriation or $30,000,000 for FY 2010 under the President's budget request. An additional national set-aside for FY 2010 includes $2,000,000 for monitoring for unregulated contaminants. If funds are appropriated for the DWSRF program at the level of $1,500,000,000, the total funds available to the States, the District of Columbia, and Territories would equal $1,468,000,000. Because the percentages are based on allotting all available funds annually to the States regardless of the year in the four-year cycle, they can be used for general planning purposes for the entire four-year cycle. Once the appropriated amount and national set-asides are known, a State's allotment can be estimated by subtracting the national set-asides from the total funds available for allotment and then applying the appropriate percentage shown below. For succeeding years, EPA will annually notify each State of their allotment from a specific fiscal year's appropriation after the final budget has been passed.

Table 2—DWSRF State Percentages and Dollar Allotments Based on the President's Budget Request for FY 2010 and the 2007 Needs Assessment
State | FY 2010 allotment ($) | 2010 allotment (%)
Alabama | 18,196,000 | 1.24
Alaska | 14,680,000 | 1.00
Arizona | 29,483,000 | 2.01
Arkansas | 22,215,000 | 1.51
California | 137,318,000 | 9.35
Colorado | 26,038,000 | 1.77
Connecticut | 14,680,000 | 1.00
Delaware | 14,680,000 | 1.00
Florida | 47,932,000 | 3.27
Georgia | 34,688,000 | 2.36
Hawaii | 14,680,000 | 1.00
Idaho | 14,680,000 | 1.00
Illinois | 55,411,000 | 3.77
Indiana | 24,485,000 | 1.67
Iowa | 25,060,000 | 1.71
Kansas | 17,960,000 | 1.22
Kentucky | 21,191,000 | 1.44
Louisiana | 27,742,000 | 1.89
Maine | 14,680,000 | 1.00
Maryland | 22,777,000 | 1.55
Massachusetts | 27,367,000 | 1.86
Michigan | 44,591,000 | 3.04
Minnesota | 24,635,000 | 1.68
Mississippi | 15,278,000 | 1.04
Missouri | 28,375,000 | 1.93
Montana | 14,680,000 | 1.00
Nebraska | 14,680,000 | 1.00
Nevada | 14,680,000 | 1.00
New Hampshire | 14,680,000 | 1.00
New Jersey | 31,361,000 | 2.14
New Mexico | 14,680,000 | 1.00
New York | 96,724,000 | 6.59
North Carolina | 38,497,000 | 2.62
North Dakota | 14,680,000 | 1.00
Ohio | 47,168,000 | 3.21
Oklahoma | 18,239,000 | 1.24
Oregon | 14,680,000 | 1.00
Pennsylvania | 43,011,000 | 2.93
Puerto Rico | 14,680,000 | 1.00
Rhode Island | 14,680,000 | 1.00
South Carolina | 14,680,000 | 1.00
South Dakota | 14,680,000 | 1.00
Tennessee | 16,315,000 | 1.11
Texas | 93,293,000 | 6.36
Utah | 14,680,000 | 1.00
Vermont | 14,680,000 | 1.00
Virginia | 24,885,000 | 1.70
Washington | 37,477,000 | 2.55
West Virginia | 14,680,000 | 1.00
Wisconsin | 25,308,000 | 1.72
Wyoming | 14,680,000 | 1.00
District of Columbia | 14,680,000 | 1.00
U.S. Territories* | 22,020,000 | 1.50
Total Funds Available to the States, the District of Columbia, Puerto Rico, and U.S. Territories | 1,468,000,000 |
American Indian & Alaska Native Water Systems | 30,000,000 |
Monitoring for Unregulated Contaminants | 2,000,000 |
Total SRF Appropriation | 1,500,000,000 |
* Virgin Islands, American Samoa, Guam, and the Commonwealth of the Northern Mariana Islands.

Dated: May 14, 2009.
Paul F. Simon,
Acting Director, Office of Ground Water and Drinking Water.

[FR Doc. E9-12470 Filed 5-27-09; 8:45 am]

BILLING CODE 6560-50-P